COMMITTEE FOR THE IMPLEMENTATION OF TEXTILE AGREEMENTS

Request for Public Comment on a Commercial Availability Request Under the U.S.-Morocco Free Trade Agreement

December 7, 2015.

AGENCY: Committee for the Implementation of Textile Agreements (CITA).

ACTION: Request for public comments concerning a request for modification of the U.S.-Morocco Free Trade Agreement (USMFTA) rules of origin for 100% rayon woven fabric.

SUMMARY: On November 16, 2015, the Government of the United States received a request from American Eagle Outfitters (AEO) to initiate consultations with the Government of Morocco under Article 4.3.3 of the USMFTA. AEO is requesting that the United States and Morocco consider revising the rules of origin for women's and girls' woven garments to address availability of supply of 100% rayon woven fabric in the territories of the Parties. The President may proclaim a modification to the USMFTA rules of origin for textile and apparel products after reaching an agreement with the Government of Morocco on the modification. CITA hereby solicits public comments on this request, in particular with regard to whether 100% rayon woven fabric of Harmonized Tariff Schedule of the United States (HTSUS) subheading 5408 can be supplied by the U.S. domestic industry in commercial quantities in a timely manner. Comments must be submitted by January 6, 2016 to the Chairman, Committee for the Implementation of Textile Agreements, Room 3001, United States Department of Commerce, Washington, DC 20230.

FOR FURTHER INFORMATION CONTACT: Maria D'Andrea, Office of Textiles and Apparel, U.S. Department of Commerce, (202) 482-1550.

SUPPLEMENTARY INFORMATION:

Authority: Section 203 (j)(2)(B)(i) of the United States-Morocco Free Trade Agreement Implementation Act (19 U.S.C. 3805 note) (USMFTA Implementation Act); Executive Order 11651 of March 3, 1972, as amended.

Background: Under the USMFTA, except as otherwise provided in the USMFTA, the Parties are required to progressively eliminate customs duties on originating goods in accordance with their schedules. See Article 2.3.2. The USMFTA provides that, on the request of either Party, the Parties shall consult to consider whether the rules of origin applicable to a particular textile or apparel good should be revised to address issues of availability of supply of fibers, yarns, or fabrics in the territories of the Parties. See Article 4.3.3 of the USMFTA. In the consultations, each Party must consider data presented by the other Party showing substantial production in its territory of a particular fiber, yarn, or fabric. Substantial production has been shown if domestic producers are capable of supplying commercial quantities of the fiber, yarn, or fabric in a timely manner. See Article 4.3.4 of the USMFTA.

The USMFTA Implementation Act provides the President with the authority to proclaim as part of the HTSUS, modifications to the USMFTA rules of origin set out in Annex 4-A of the USMFTA as are necessary to implement the USMFTA after complying with the consultation and layover requirements of Section 104 of the USMFTA Implementation Act. See Section 203(j)(2)(B)(i) of the USMFTA Implementation Act. Executive Order 11651 established CITA to supervise the implementation of textile trade agreements and authorizes the Chairman of CITA to take actions or recommend that appropriate officials or agencies of the United States take actions necessary to implement textile trade agreements. 37 FR 4699 (March 4, 1972).

On November 16, 2015, the Government of the United States received a request from AEO, alleging that 100% rayon woven fabric cannot be supplied by the domestic or Moroccan industry in commercial quantities in a timely manner and requesting that the United States consider whether the USMFTA rule of origin for women's and girls' woven garments, classified under HTSUS chapter 62, should be modified to allow the use of non-U.S. and non-Moroccan 100% woven rayon fabric classified in subheading 5408 of the HTSUS.

CITA is soliciting public comments regarding this request, particularly with respect to whether 100% rayon woven fabric described above can be supplied by the U.S. domestic industry in commercial quantities in a timely manner. Comments must be received no later than January 6, 2016. Interested persons are invited to submit six copies of such comments or information to the Chairman, Committee for the Implementation of Textile Agreements, Room 3001, U.S. Department of Commerce, 14th and Constitution Avenue NW., Washington, DC 20230.

CITA will protect any business confidential information that is marked business confidential from disclosure to the full extent permitted by law. CITA will make available to the public non-confidential versions of the request and non-confidential versions of any public comments received with respect to a request in room 3001 in the Herbert Hoover Building, 14th and Constitution Avenue NW., Washington, DC 20230. Persons submitting comments on a request are encouraged to include a non-confidential version and a non-confidential summary.

Joshua Teitelbaum,
Chairman, Committee for the Implementation of Textile Agreements.

[FR Doc. 2015-30756 Filed 12-4-15; 8:45 am]

BILLING CODE 3510-DR-P